DEPARTMENT OF LABOR

Mine Safety and Health Administration

30 CFR Part 49

RIN 1219-AB56

Mine Rescue Team Equipment

AGENCY: Mine Safety and Health Administration, Labor.

ACTION: Extension of comment period.

SUMMARY: The Mine Safety and Health Administration (MSHA) is extending the comment period for the Proposed Rule on Mine Rescue Team Equipment for underground coal and metal and nonmetal mines published on September 6, 2007 (72 FR 51338). This extension gives commenters additional time to review recently posted transcripts on MSHA's Web site.

DATES: The comment period will close midnight, November 16, 2007, Eastern Standard Time.

ADDRESSES: Comments must be clearly identified and may be submitted by any of the following methods:

(1) Federal Rulemaking Portal: http://www.regulations.gov. Follow the instructions for submitting comments.

(2) Electronic mail: zzMSHA-Comments@dol.gov. Include “RIN 1219-AB56” in the subject line of the message.

(3) Telefax: (202) 693-9441. Include “RIN 1219-AB56” in the subject.

(4) Regular Mail: MSHA, Office of Standards, Regulations, and Variances, 1100 Wilson Blvd., Room 2350, Arlington, Virginia, 22209-3939.

(5) Hand Delivery or Courier: MSHA, Office of Standards, Regulations, and Variances, 1100 Wilson Blvd., Room 2350, Arlington, Virginia 22209-3939. Sign in at the receptionist's desk on the 21st floor.

(6) Docket: Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Boulevard, Room 2350, Arlington, Virginia 22209-3939. Ms. Silvey can be reached at (Internet E-mail), (202) 693-9440 (voice), or (202) 693-9441 (facsimile). This notice is available on the Internet at http://www.msha.gov/REGSINFO.HTM.

SUPPLEMENTARY INFORMATION: MSHA issued a Proposed Rule on Mine Rescue Team Equipment for underground coal and metal mines on September 6, 2007 (72 FR 51338). The proposal provided notice of four public hearings which were held on October 23, October 25, October 30, and November 1, 2007 and required that all comments be submitted by November 9, 2007. On November 5, 2007 the National Mining Association requested that the comment period be extended for 30 days to allow additional time to review and comment on the transcripts of the public hearings.

MSHA is extending the comment period to November 16, 2007. This action allows commenters sufficient time to review the posted transcripts and submit comments. All comments and other appropriate data must be submitted by midnight, November 16, 2007, Eastern Standard Time.

Dated: November 6, 2007.
Richard E. Stickler,
Assistant Secretary for Mine Safety and Health.

[FR Doc. E7-22089 Filed 11-8-07; 8:45 am]

BILLING CODE 4510-43-P